DEPARTMENT OF HOMELAND SECURITY

Federal Emergency Management Agency

44 CFR Part 65

Changes in Flood Elevation Determinations

AGENCY: Federal Emergency Management Agency, Emergency Preparedness and Response Directorate, Department of Homeland Security.

ACTION: Final rule.

SUMMARY: Modified Base (1% annual-chance) Flood Elevations (BFEs) are finalized for the communities listed below. These modified elevations will be used to calculate flood insurance premium rates for new buildings and their contents.

EFFECTIVE DATES: The effective dates for these modified BFEs are indicated on the table below and revise the Flood Insurance Rate Maps (FIRMs) in effect for the listed communities prior to this date.

ADDRESSES: The modified BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

The modified BFEs are not listed for each community in this notice. However, this rule includes the address of the Chief Executive Officer of the community where the modified BFE determinations are available for inspection.

The modifications are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings.

The changes in BFEs are in accordance with 44 CFR 65.4.

National Environmental Policy Act

This rule is categorically excluded from the requirements of 44 CFR part 10, Environmental Consideration. No environmental impact assessment has been prepared.

Regulatory Flexibility Act

The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This final rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and names of newspaper where notice was published | Chief executive officer of community | Effective date of modification | Community No.
Arkansas: Pulaski, (Case No. 02-06-2217P), (FEMA Docket No. P7626) | City of Little Rock | June 25, 2003, Jul. 2, 2003, Little Rock Free Press | The Honorable Jim Dailey, Mayor, City of Little Rock, Little Rock City Hall, Room 203, 500 West Markham, Little Rock, AR 72201 | June 13, 2003 | 050181
Illinois:
Cook, (Case No. 03-05-0548P), (FEMA Docket No. P7626) | Unincorporated areas | Jul. 10, 2003, Jul. 17, 2003, Orlando Township Messenger | Mr. John H. Stroger, Jr., President, Cook County Board of Commissioners, 118 North Clark Street, 5th Floor, Chicago, IL 60602 | Oct. 16, 2003 | 170054
Cook, (Case No. 03-05-1844P), (FEMA Docket No. P7626) | City of Countryside | Jul. 9, 2003, Jul. 16, 2003, The Suburban Life | The Honorable Carl W. LeGant, Mayor, City of Countryside, City Hall, 5550 East Avenue, Countryside, IL 60525-3689 | Jul. 25, 2003 | 170079
Michigan: Wayne, (Case No. 02-05-3652P), (FEMA Docket No. P7626) | Township of Canton | Jul. 10, 2003, Jul. 17, 2003, Canton Eagle | Mr. Thomas Yack, Township Supervisor, Township of Canton, 1150 South Canton Center, Canton, MI 48188 | June 24, 2003 | 260219
Minnesota: Jackson, (Case No. 03-05-2556P), (FEMA Docket No. P7626) | City of Jackson | May 22, 2003, May 29, 2003, Jackson County Pilot | The Honorable Ray Hansen, Mayor, City of Jackson, 80 West Ashley, Jackson, MN 56143 | Apr. 17, 2003 | 270213
Missouri: St. Louis, (Case No. 03-07-111P), (FEMA Docket No. P7626) | City of Town and Country | Jul. 9, 2003, Jul. 16, 2003, St. Louis Post Dispatch | The Honorable David A. Karney, Mayor, City of Town and Country, Municipal Center, 1011 Municipal Center Drive, Town and Country, MO 63131 | Oct. 15, 2003 | 290389
New Mexico:
Bernalillo, (Case No. 03-06-200P), (FEMA Docket No. P7626) | City of Albuquerque | Jul. 8, 2003, Jul. 15, 2003, Albuquerque Journal | The Honorable Martin Chavez, Mayor, City of Albuquerque, P.O. Box 1293, Albuquerque, NM 87103 | June 13, 2003 | 350002
Bernalillo, (Case No. 03-06-200P), (FEMA Docket No. P7626) | Unincorporated areas | Jul. 8, 2003, Jul. 15, 2003, Albuquerque Journal | Mr. Tim Cummins, Chairperson, Bernalillo County Commission, One Civic Plaza, N.W., Albuquerque, NM 87102 | June 13, 2003 | 350001
Oklahoma:
Oklahoma, (Case No. 02-06-654P), (FEMA Docket No. P7626) | City of Oklahoma City | June 23, 2003, June 30, 2003, The Daily Oklahoman | The Honorable Kirk Humphreys, Mayor, City of Oklahoma City, 200 North Walker, 3rd Floor, Oklahoma City, OK 73102 | Sept. 29, 2003 | 405378
Tulsa, (Case No. 03-06-1535P), (FEMA Docket No. P7626) | City of Tulsa | June 23, 2003, June 30, 2003, Tulsa World | The Honorable Bill La Fortune, Mayor, City of Tulsa, City Hall, 200 Civic Center, Tulsa, OK 74103 | Sept. 29, 2003 | 405381
Texas:
Denton, (Case No. 03-06-181P), (FEMA Docket No. P7626) | City of Argyle | Jul. 10, 2003, Jul. 17, 2003, The Argyle Sun | The Honorable Yvonne Jenkins, Mayor, City of Argyle, 506 North Highway 377, Argyle, TX 76226 | June 13, 2003 | 480775
Tarrant, (Case No. 03-06-849P), (FEMA Docket No. P7626) | City of Arlington | Jul. 9, 2003, Jul. 16, 2003, Arlington Morning News | The Honorable Elzie Odom, Mayor, City of Arlington, 101 West Abram Street, Box 231, Arlington, TX 76004-0231 | June 25, 2003 | 485454
Bexar, (Case No. 02-06-2298P), (FEMA Docket No. P7626) | Unincorporated areas | June 30, 2003, Jul. 7, 2003, San Antonio Express News | The Honorable Nelson W. Wolff, Judge, Bexar County, Bexar County Courthouse, 100 Dolorosa, Suite 120, San Antonio, TX 78205 | June 6, 2003 | 480035
Dallas, (Case No. 03-06-844P), (FEMA Docket No. P7626) | City of Carrollton | June 25, 2003, Jul. 2, 2003, Carrollton Leader | The Honorable Mark Stokes, Mayor, City of Carrollton, P.O. Box 110535, Carrollton, TX 75006 | Oct. 1, 2003 | 480167
Collin, (Case No. 02-06-1413P), (FEMA Docket No. P7626) | Unincorporated areas | June 25, 2003, Jul. 2, 2003, Plano Star Courier | The Honorable Ron Harris, Judge, Collin County, 210 South McDonald Street, McKinney, TX 75069 | Oct. 1, 2003 | 480130
Dallas, (Case No. 03-06-844P), (FEMA Docket No. P7626) | City of Coppell | June 25, 2003, Jul. 2, 2003, Coppell Gazette | The Honorable Candy Sheehan, Mayor, City of Coppell, 255 Parkway Boulevard, P.O. Box 9478, Coppell, TX 75019 | Oct. 1, 2003 | 480170
Denton, (Case No. 03-06-181P), (FEMA Docket No. P7626) | City of Denton | Jul. 10, 2003, Jul. 17, 2003, Denton Record Chronicle | The Honorable Euline Brock, Mayor, City of Denton, 215 East McKinney Street, Denton, TX 76201 | June 13, 2003 | 480194
El Paso, (Case No. 02-06-1458P), (FEMA Docket No. P7626) | City of El Paso | June 24, 2003, Jul. 1, 2003, El Paso Times | The Hon. Raymond Caballero, Mayor, City of El Paso, Two Civic Center Plaza, El Paso, TX 79901 | June 5, 2003 | 480214
Collin, (Case No. 02-06-1413P), (FEMA Docket No. P7626) | Town of Fairview | June 25, 2003, Jul. 2, 2003, Plano Star Courier | The Honorable Don Phillips, Mayor, Town of Fairview, 500 S. Highway 5, Fairview, TX 75069 | Oct. 1, 2003 | 481069
Tarrant, (Case No. 03-06-448P), (FEMA Docket No. P7626) | City of Fort Worth | June 30, 2003, Jul. 7, 2003, The Star Telegram | The Honorable Kenneth Barr, Mayor, City of Forth Worth, 1000 Throckmorton Street, Fort Worth, TX 76102 | Oct. 6, 2003 | 480596
Dallas, (Case No. 02-06-2315P), (FEMA Docket No. P7626) | City of Irving | Jul. 10, 2003, Jul. 17, 2003, The Irving Morning News | The Honorable Joe H. Putnam, Mayor, City of Irving, 825 West Irving Boulevard, Irving, TX 75060 | June 24, 2003 | 480180
Denton, (Case No. 03-06-844P), (FEMA Docket No. P7626) | City of Lewisville | June 25, 2003, Jul. 2, 2003, Lewisville Leader | The Honorable Gene Carey, Mayor, City of Lewisville, P.O. Box 299002, 1197 West Main Street, Lewisville, TX 75029 | Oct. 1, 2003 | 480195
Gregg and Harrison, (Case No. 02-06-1532P), (FEMA Docket No. P7626) | City of Longview | June 30, 2003, Jul. 7, 2003, Longview News Journal | The Honorable Murray Moore, Mayor, City of Longview, P.O. Box 1952, Longview, TX 75606 | Oct. 6, 2003 | 480264
Tarrant, (Case No. 02-06-1674P), (FEMA Docket No. P7626) | City of Mansfield | June 12, 2003, June 19, 2003, Mansfield News Mirror | The Honorable David Harry, Mayor, City of Mansfield, No. 2 Brookway Court, Mansfield, TX 76063 | Sept. 18, 2003 | 480606
Dallas, (Case No. 03-06-682P), (FEMA Docket No. P7626) | City of Mesquite | May 22, 2003, May 29, 2003, Mesquite Morning News | The Honorable Mike Anderson, Mayor, City of Mesquite, P.O. Box 850137, Mesquite, TX 75185 | May 2, 2003 | 485490
Brazoria, (Case No. 03-06-176P), (FEMA Docket No. P7626) | City of Pearland | June 25, 2003, Jul. 2, 2003, Pearland Reporter News | The Honorable Thomas Reid, Mayor, City of Pearland, 3519 Liberty Drive, Pearland, TX 77581 | Jul. 11, 2003 | 480077

(Catalog of Federal Domestic Assistance No. 83.100, “Flood Insurance.”)
Dated: December 18, 2003.
Anthony S. Lowe,
Mitigation Division Director, Emergency Preparedness and Response Directorate.

[FR Doc. 04-159 Filed 1-5-04; 8:45 am]

BILLING CODE 6718-04-P